DEPARTMENT OF TRANSPORTATION

Federal Aviation Administration

14 CFR Part 39

[Docket No. FAA-2023-1492; Project Identifier MCAI-2023-00195-T]

RIN 2120-AA64

Airworthiness Directives; Airbus SAS Airplanes

AGENCY: Federal Aviation Administration (FAA), DOT.

ACTION: Notice of proposed rulemaking (NPRM).

SUMMARY: The FAA proposes to supersede Airworthiness Directive (AD) 2022-18-09, which applies to certain Airbus SAS Model A319-111, -112, -113, -114, -115, -131, -132, and -133; A320-211, -212, -214, -216, -231, -232, -233, -251N, and -271N; and A321-111, -112, -131, -211, -212, -213, -231, -232, -251N, and -253N airplanes. AD 2022-18-09 continues to require the actions in AD 2019-26-01 and AD 2021-23-15, and adds airplanes to the applicability. Since the FAA issued AD 2022-18-09, it was determined that additional airplanes and galleys are subject to the unsafe condition, and a compliance time for certain airplanes should be extended. This proposed AD would continue to require the actions in AD 2022-18-09 and would require expanding the applicability, obtaining and following additional instructions for certain modified airplanes, and extending the compliance time for certain airplanes, as specified in a European Union Aviation Safety Agency (EASA) AD, which is proposed for incorporation by reference (IBR). The FAA is proposing this AD to address the unsafe condition on these products.

DATES: The FAA must receive comments on this proposed AD by August 28, 2023.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-1492; or in person at Docket Operations between 9 a.m. and 5 p.m., Monday through Friday, except Federal holidays. The AD docket contains this NPRM, the mandatory continuing airworthiness information (MCAI), any comments received, and other information. The street address for Docket Operations is listed above.

Material Incorporated by Reference:

• For the AD identified in this NPRM, you may contact EASA, Konrad-Adenauer-Ufer 3, 50668 Cologne, Germany; telephone +49 221 8999 000; email ADs@easa.europa.eu; website easa.europa.eu. You may find this material on the EASA website at ad.easa.europa.eu. It is also available at regulations.gov under Docket No. FAA-2023-1492.

• You may view this service information at the FAA, Airworthiness Products Section, Operational Safety Branch, 2200 South 216th St., Des Moines, WA. For information on the availability of this material at the FAA, call 206-231-3195.

FOR FURTHER INFORMATION CONTACT: Timothy Dowling, Aviation Safety Engineer, FAA, 1600 Stewart Avenue, Suite 410, Westbury, NY 11590; telephone 206-231-3667; email timothy.p.dowling@faa.gov.

SUPPLEMENTARY INFORMATION:

Comments Invited

The FAA invites you to send any written relevant data, views, or arguments about this proposal. Send your comments to an address listed under ADDRESSES. Include “Docket No. FAA-2023-1492; Project Identifier MCAI-2023-00195-T” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Timothy Dowling, Aviation Safety Engineer, FAA, 1600 Stewart Avenue, Suite 410, Westbury, NY 11590; telephone 206-231-3667; email timothy.p.dowling@faa.gov. Any commentary that the FAA receives which is not specifically designated as CBI will be placed in the public docket for this rulemaking.

Background

The FAA issued AD 2022-18-09, Amendment 39-22160 (87 FR 56576, September 15, 2022) (AD 2022-18-09), for certain Airbus SAS Model A319-111, -112, -113, -114, -115, -131, -132, and -133; A320-211, -212, -214, -216, -231, -232, -233, -251N, and -271N, and A321-111, -112, -131, -211, -212, -213, -231, -232, -251N, and -253N airplanes. AD 2022-18-09 was prompted by an MCAI originated by EASA, which is the Technical Agent for the Member States of the European Union. EASA issued AD 2022-0026, dated February 16, 2022, to correct an unsafe condition.

AD 2022-18-09 continues to require the actions that were required by AD 2019-26-11, Amendment 39-21022 (85 FR 6755, February 6, 2020) (AD 2019-26-11) and AD 2021-23-15, Amendment 39-21813 (86 FR 68894, December 6, 2021) (AD 2021-23-15), and adds airplanes to the applicability. The FAA issued AD 2022-18-09 to address potential failure of the galley door and release of waste bins during a rejected take-off or an emergency landing, and potential container detachment from the galley under certain forward loading conditions, possibly resulting in damage to the airplane and injury to occupants.

Actions Since AD 2022-18-09 Was Issued

Since the FAA issued AD 2022-18-09, EASA superseded EASA AD 2022-0026, dated February 16, 2022, and issued EASA AD 2023-0029, dated February 1, 2023 (EASA AD 2023-0029) (also referred to as the MCAI), to correct an unsafe condition for certain Airbus A318-111, A318-112, A318-121, A318-122, A319-111, A319-112, A319-113, A319-114, A319-115, A319-131, A319-132, A319-133, A319-151N, A319-153N, A319-171N, A320-211, A320-212, A320-214, A320-215, A320-216, A320-231, A320-232, A320-233, A320-251N, A320-252N, A320-253N, A320-271N, A320-272N, A320-273N, A321-111, A321-112, A321-131, A321-211, A321-212, A321-213, A321-231, A321-232, A321-251N, A321-252N, A321-253N, A321-271N and A321-272N airplanes. Model A320-215 airplanes are not certificated by the FAA and are not included on the U.S. type certificate data sheet; this AD therefore does not include those airplanes in the applicability. The MCAI states that during a full-scale qualification test of Galley G5, the door of the waste compartment opened before the required load was reached. This event was determined to be the result of galley global deflection. This condition, if not corrected, could lead to failure of the galley door and release of waste bins during a rejected take-off or an emergency landing, possibly resulting in damage to the airplane and injury to occupants.

To address this potential unsafe condition, EASA issued AD 2018-0255 (which corresponds to FAA AD 2019-26-11), requiring a modification to the waste compartment door by installing a door catch bracket and a new striker.

After that AD was issued, container/galley end stop bumpers were found damaged in service, which could lead to container detachment from the galley under certain forward loading conditions, possibly resulting in injury to airplane occupants. EASA issued AD 2019-0106 (which corresponds to FAA AD 2021-23-15) to require modification of the affected galleys by replacing affected bumpers with serviceable bumpers.

After those ADs were issued, it was determined that additional airplanes may be subject to the unsafe condition, and EASA issued AD 2022-0026 (which corresponds to FAA AD 2022-18-09) and superseded EASA ADs 2018-0255 and 2019-0106 (FAA AD 2022-18-09 superseded FAA ADs 2019-26-11 and 2021-23-15).

Consequently, based on comments from operators and information from the galley manufacturer, EASA determined that additional actions are needed for galleys that were modified using non-Airbus-approved modifications, that additional airplanes are subject to the unsafe condition, and that the compliance time for Group 5 airplanes should be extended.

The FAA is proposing this AD to address the unsafe condition on these products. You may examine the MCAI in the AD docket at regulations.gov under Docket No. FAA-2023-1492.

Explanation of Retained Requirements

Although this proposed AD does not explicitly restate the requirements of AD 2022-18-09, this proposed AD would retain all of the requirements of AD 2022-18-09. Those requirements are referenced in AD 2022-18-09, which, in turn, is referenced in paragraph (g) of this proposed AD.

Related Service Information Under 1 CFR Part 51

EASA AD 2023-0029 specifies procedures for modifying the affected galleys by replacing the affected bumpers with serviceable bumpers; for modifying the waste compartment door of each affected galley by installing a door catch bracket and a new striker, and for re-identifying the affected galleys. For airplanes equipped with galleys that were modified using non-Airbus-approved methods, EASA AD 2023-0029 specifies procedures for obtaining and accomplishing additional instructions. This material is reasonably available because the interested parties have access to it through their normal course of business or by the means identified in the ADDRESSES section.

FAA's Determination

This product has been approved by the aviation authority of another country and is approved for operation in the United States. Pursuant to the FAA's bilateral agreement with this State of Design Authority, it has notified the FAA of the unsafe condition described in the MCAI referenced above. The FAA is issuing this NPRM after determining that the unsafe condition described previously is likely to exist or develop in other products of the same type design.

Proposed AD Requirements in This NPRM

This proposed AD would require accomplishing the actions specified in EASA AD 2023-0029 described previously, except for any differences identified as exceptions in the regulatory text of this proposed AD.

Explanation of Required Compliance Information

In the FAA's ongoing efforts to improve the efficiency of the AD process, the FAA developed a process to use some civil aviation authority (CAA) ADs as the primary source of information for compliance with requirements for corresponding FAA ADs. The FAA has been coordinating this process with manufacturers and CAAs. As a result, the FAA proposes to incorporate EASA AD 2023-0029 by reference in the FAA final rule. This proposed AD would, therefore, require compliance with EASA AD 2023-0029 in its entirety through that incorporation, except for any differences identified as exceptions in the regulatory text of this proposed AD. Using common terms that are the same as the heading of a particular section in EASA AD 2023-0029 does not mean that operators need comply only with that section. For example, where the AD requirement refers to “all required actions and compliance times,” compliance with this AD requirement is not limited to the section titled “Required Action(s) and Compliance Time(s)” in EASA AD 2023-0029. Service information required by EASA AD 2023-0029 for compliance will be available at regulations.gov under Docket No. FAA-2023-1492 after the FAA final rule is published.

Costs of Compliance

The FAA estimates that this AD, if adopted as proposed, would affect 1,507 airplanes of U.S. registry. The FAA estimates the following costs to comply with this proposed AD:

Estimated Costs for Required Actions
Action | Labor cost | Parts cost | Cost per product | Cost on U.S. operators
Retained actions from AD 2022-18-09 | Up to 59 work-hours × $85 per hour = Up to $5,105 | $0 | Up to $5,105 | Up to $5,476,380.

The FAA has received no definitive data on which to base the cost estimates for the obtaining and following additional instructions action specified in this proposed AD.

According to the manufacturer, some or all of the costs of this proposed AD may be covered under warranty, thereby reducing the cost impact on affected individuals. The FAA does not control warranty coverage for affected individuals. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2022-18-09, Amendment 39-22160 (87 FR 56576, September 15, 2022); and

b. Adding the following new AD:

Airbus SAS: Docket No. FAA-2023-1492; Project Identifier MCAI-2023-00195-T.

(a) Comments Due Date

The FAA must receive comments on this airworthiness directive (AD) by August 28, 2023.

(b) Affected ADs

This AD replaces AD 2022-18-09, Amendment 39-22160 (87 FR 56576, September 15, 2022) (AD 2022-18-09).

(c) Applicability

This AD applies to the Airbus SAS airplanes specified in paragraphs (c)(1) through (3) of this AD, certificated in any category, as identified in European Union Aviation Safety Agency (EASA) AD 2023-0029, dated February 1, 2023 (EASA AD 2023-0029), except where the Applicability of EASA AD 2023-0029 refers to certain galleys, replace the text “if equipped with a galley,” with “if delivered with a galley.”

(1) Model A318-111, -112, -121, and -122 airplanes.

(2) Model A319-111, -112, -113, -114, -115, -131, -132, -133, -151N, -153N and -171N airplanes.

(3) Model A320-211, -212, -214, -216, -231, -232, -233, -251N, -252N, -253N, -271N, -272N, and -273N airplanes.

(4) Model A321-111, -112, -131, -211, -212, -213, -231, -232, -251N, -252N, -253N, -271N, and -272N airplanes.

(d) Subject

Air Transport Association (ATA) of America Code 25, Equipment/Furnishings.

(e) Unsafe Condition

This AD was prompted by a report that during re-engineering of galley G5, a 9G forward full scale qualification test was performed, and the door of the waste compartment opened before the required load was reached, and by reports of finding container/galley end stop bumpers damaged in service. This AD was also prompted by the determination that additional airplanes and galleys are subject to the unsafe condition, and a compliance time for certain airplanes should be extended. The FAA is issuing this AD to address potential failure of the galley door and release of waste bins during a rejected take-off or an emergency landing, and potential container detachment from the galley under certain forward loading conditions, possibly resulting in damage to the airplane and injury to occupants.

(f) Compliance

Comply with this AD within the compliance times specified, unless already done.

(g) Requirements

Except as specified in paragraph (h) of this AD: Comply with all required actions and compliance times specified in, and in accordance with, EASA AD 2023-0029.

(h) Exceptions to EASA AD 2023-0029

(1) Where EASA AD 2023-0029 specifies a compliance time of “within 12 months after 11 December 2018 [the effective date of EASA AD 2018-0255], “this AD requires using “within 12 months after January 10, 2022 (the effective date of AD 2021-23-15), or within 6 months after the effective date of this AD, whichever occurs later.”

(2) Where EASA AD 2023-0029 refers to May 29, 2019 (the effective date of EASA AD 2019-0106), this AD requires using March 12, 2020 (the effective date of AD 2019-26-11).

(3) Where EASA AD 2023-0029 specifies a compliance time of “within 12 months after 02 March 2022 [the effective date of EASA AD 2022-0026],” this AD requires using “within 12 months after October 20, 2022 (the effective date of AD 2022-18-09), or within 6 months after the effective date of this AD, whichever occurs later.”

(4) Where EASA AD 2023-0029 refers to its effective date, this AD requires using the effective date of this AD.

(5) This AD does not adopt the “Remarks” section of EASA AD 2023-0029.

(i) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (j) of this AD. Information may be emailed to: 9-AVS-AIR-730-AMOC@faa.gov.

(i) Before using any approved AMOC, notify your appropriate principal inspector, or lacking a principal inspector, the manager of the responsible Flight Standards Office.

(ii) AMOCs approved previously for AD 2022-18-09 are approved as AMOCs for the corresponding provisions of EASA AD 2023-0029 that are required by paragraph (g) of this AD.

(2) Contacting the Manufacturer: For any requirement in this AD to obtain instructions from a manufacturer, the instructions must be accomplished using a method approved by the Manager, International Validation Branch, FAA; or EASA; or Airbus SAS's EASA Design Organization Approval (DOA). If approved by the DOA, the approval must include the DOA-authorized signature.

(3) Required for Compliance (RC): Except as required by paragraph (i)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Additional Information

For more information about this AD, contact Timothy Dowling, Aviation Safety Engineer, FAA, 1600 Stewart Avenue, Suite 410, Westbury, NY 11590; telephone 206-231-3667; email timothy.p.dowling@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2023-0029, dated February 1, 2023.

(ii) [Reserved]

(3) For EASA AD 2023-0029, contact EASA, Konrad-Adenauer-Ufer 3, 50668 Cologne, Germany; telephone +49 221 8999 000; email ADs@easa.europa.eu; website easa.europa.eu. You may find this EASA AD on the EASA website at ad.easa.europa.eu.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, email fr.inspection@nara.gov, or go to: www.archives.gov/federal-register/cfr/ibr-locations.html.

Issued on July 8, 2023.
Michael Linegang,
Acting Director, Compliance & Airworthiness Division, Aircraft Certification Service.

[FR Doc. 2023-14878 Filed 7-13-23; 8:45 am]

BILLING CODE 4910-13-P